FEDERAL COMMUNICATIONS COMMISSION

Notice of Public Information Collection(s) Being Submitted for Review to the Office of Management and Budget

September 18, 2008.

SUMMARY: The Federal Communications Commission, as part of its continuing effort to reduce paperwork burden invites the general public and other Federal agencies to take this opportunity to comment on the following information collection(s), as required by the Paperwork Reduction Act (PRA) of 1995, 44 U.S.C. 3501—3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 24, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION:

OMB Control Number: 3060-0905.

Title: Section 18.213, Information to the User (Regulations for RF Lighting Devices).

Form No.: N/A.

Type of Review: Revision of a currently approved collection.

Respondents: Business or other for-profit and not-for-profit institutions.

Number of Respondents: 30 respondents; 3 responses.

Estimated Time per Response: 1 hour.

Frequency of Response: Third party disclosure requirement.

Obligation to Respond: Required to obtain or retain benefits.

Total Annual Burden: 3 hours.

Total Annual Cost: $225.

Privacy Act Impact Assessment: N/A.

Nature and Extent of Confidentiality: There is no need for confidentiality.

Needs and Uses: The Commission will submit this information collection (IC) to the OMB as a revision during this comment period to obtain the full three-year clearance from them. The Commission is reporting a −$775 annual cost burden reduction (adjustment). This adjustment is due to a recalculation of the estimated cost that was reported in 2005 to the OMB.

The Commission is revising this information collection to remove section 18.307 which was previously approved by OMB in 2005. The reason for eliminating this rule section is because it does not contain reporting, recordkeeping and/or third party disclosure requirements subject to the Paperwork Reduction Act. Section 18.307 only refers to conduction limits and frequencies of emissions. There, there are no PRA requirements for Section 18.307.

Section 18.213 is the only remaining rule section in this information collection (IC). Section 18.213 requires a third party disclosure requirement for manufacturers of RF lighting devices to provide an advisory statement either on the product packaging or with other user documentation, similar to the following:

This product may cause interference to radio equipment and should not be installed near maritime safety communications equipment or other critical navigation or communication equipment operating between 0.45-30 MHz.

Manufacturers are required to label all RF lighting device packages with a warning label. Variations of the language required in Section 18.213 are permitted provided all the points of the statement are addressed and may be presented in any legible font or text style. Otherwise the Commission does not require the use of any information technology techniques to perform the labeling requirement.

OMB Control Number: 3060-1022.

Title: Sections 101.1403, 101.103(f), 101.1413, 101.1440, and 101.1417, MVDDS and DBS Reporting and Third Party Disclosure Requirements.

Form No.: N/A.

Type of Review: Revision of a currently approved collection.

Respondents: Business or other for-profit.

Number of Respondents: 217 respondents; 217 responses.

Estimated Time per Response: .05-40 hours.

Frequency of Response: Annual, on occasion and every five and ten year reporting requirements and third party disclosure requirements.

Obligation to Respond: Required to obtain or retain benefits.

Total Annual Burden: 10,347 hours.

Total Annual Cost: $5,300.

Privacy Act Impact Assessment: N/A.

Nature and Extent of Confidentiality: There is no need for confidentiality.

Needs and Uses: The Commission will submit this information collection (IC) to the OMB as a revision during this comment period to obtain the full three-year clearance from them. The Commission is revising this information collection to consolidate five related information collections with five different OMB control numbers into one comprehensive information collection. The affected OMB Control Numbers are 3060-1022 through 3060-1026. After OMB approval, the Commission will eliminate OMB Control Numbers 3060-1023 through 3060-1026 and retain 3060-1022 as the active number for the OMB inventory.

The Commission is not changing any of the reporting and or third party disclosure requirements. We are simply modifying this IC to include the other four ICs as mentioned above.

Section 101.1403 requires certain Multichannel Video Distribution and Data Service (MVDDS) licensees to comply with the statutory broadcast carriage requirements of 47 U.S.C. Section 325(b)(1). Relevant to the Paperwork Reduction At (PRA), these MVDDS licensees must obtain the prior express authority of a broadcast station before transmitting that station's signal. (Formerly under OMB Control Number 3060-1022).

Section 101.103(f) requires MVDDS licensees to provide notice of intent to construct a proposed antenna to NGSO FSS licensees operating in the 12.2-12.7 GHz frequency band and to establish and maintain an Internet web site of all existing transmitting sites and transmitting antenna that are scheduled for operation within one year including the “in service” dates (formerly under OMB Control Number 3060-1023).

Section 101.1413 (formerly under OMB Control Number 3060-1024) requires MVDDS licensees to file a showing of substantial service at the five and ten year into the initial license term. The substantial service requirement is defined as a “service that is sound, favorable, and substantially above the level of mediocre service which might minimally warrant renewal”. The renewal application of a MVDDS licensee must include the following showings in order to claim a renewal expectancy:

(1) A coverage map depicting the served and unserved areas;

(2) A corresponding description of current service in terms of geographic coverage and population served or transmitter locations in the served areas; and

(3) Copies of an Commission Orders finding the licensee to have violated the Communications Act or any Commission rule or policy and a list of any pending proceedings that relate to any matter described by the requirements for the renewal expectancy.

Section 101.1440 requires MVDDS licensees to collect information and disclose information to third parties (formerly under OMB Control Number 3060-1025).

Section 101.1417 requires MVDDS licensees to file an annual report (formerly under OMB Control Number 3060-1026).

The Commission uses the information in various ways such as to analyze trends and competition in the marketplace; ensure that MVDDS licensee protect DBS customers of record from interference; whether the licensee is providing substantial service; ensure that prior to operation the MVDDS antennas meet the minimum spacing requirement, etc.

Federal Communications Commission.
Marlene H. Dortch,
Secretary.

[FR Doc. E8-22451 Filed 9-23-08; 8:45 am]

BILLING CODE 6712-01-P